DEPARTMENT OF ENERGY

Federal Energy Regulatory Commission

[Project No. 2816-017]

North Hartland, LLC; Notice of Petition for Declaratory Order

September 3, 2002.

On August 15, 2002, North Hartland, LLC (NHL), filed a petition for a declaratory order to resolve matters relating to the transfer of the license for the North Hartland Project No. 2816, located at the U.S. Army Corps of Engineers' North Hartland Dam, on the Ottauquechee River, in Windsor County, Vermont. The Commission, in June 2000, approved the transfer of the license to NHL from Vermont Electric Generation & Transmission Cooperative (VEGT), through the trustee of VEGT's bankruptcy estate. According to the petition, the bankruptcy trustee has been discharged from his duties, and the project assets are now in the custody and control of the U.S. Government, specifically the Department of Justice, representing the Rural Utilities Service of the Department of Agriculture.

The petition states that, under Title 30 of the Vermont Statutes Annotated, section 109, a corporation subject to the Vermont Public Service Board (board) shall not make a sale, lease, or series of sales or leases in any one calendar year constituting ten percent or more of the company's property located within Vermont and actually used for public service operations, except after opportunity for hearing by the board and a finding by the board that such a sale or lease will promote the general good of the state. Section 109 provides that a certificate of consent of the board shall be filed with the secretary of state. Section 231 of the same statute provides that a person, partnership, or association desiring to own or operate a business over which the board has jurisdiction must first petition the board to determine whether the operation of such business will promote the general good of the state.

The petition states that the board has asserted authority under Title 30 over the transfer of the project property to NHL and over NHL's operation of the project, and that, over a period of two years, the board has failed either to issue approvals of those actions or to agree that such approvals are unnecessary. NHL requests that the Commission issue a declaratory order finding that action or approval by the board is not required to consummate the transactions approved in the Commission's license transfer order, by which NHL means the transfer of the project property and the ownership and operation of the project by NHL. NHL asks the Commission to determine that the Commission has exclusive jurisdiction over the project, including its sale, transfer, ownership, and operation, to the exclusion of Title 30, the application of which conflicts with Federal law.

Any person desiring to be heard or to protest the petition should file comments, a protest, or a motion to intervene in accordance with the requirements of the Commission's Rules of Practice and Procedure, 18 CFR 385.210, 385.211 and 385.214. In determining the appropriate action to take, the Commission will consider all protests and other comments, but only those who file a motion to intervene may become parties to the proceeding. Comments, protests, or motions to intervene must be filed within 15 days of publication of this notice in the Federal Register and must bear in all capital letters the title “COMMENTS,” “PROTEST,” or “MOTION TO INTERVENE,” as applicable, and Project No. 2816-017.

Comments, protests, and interventions may be filed electronically via the internet in lieu of paper. See, 18 CFR 385.2001(a)(1)(iii) and the instructions on the Commission's web site under the “e-filing” link.

Send the filings (original and 8 copies) to: The Secretary, Federal Energy Regulatory Commission, 888 First Street, NE., Washington, DC 20426. The Petition for Declaratory Order is available for review at the Commission in the Public Reference Room or may be viewed on the Commission's web site at http://www.ferc.gov using the “FERRIS” link. Enter the docket number excluding the last three digits in the docket number field to access the document. For Assistance, call (202) 502-8222 or for TTY, (202) 208-1659.

Linwood A. Watson, Jr.,
Deputy Secretary.

[FR Doc. 02-22885 Filed 9-9-02; 8:45 am]

BILLING CODE 6717-01-P